DEPARTMENT OF TRANSPORTATION

Pipeline and Hazardous Materials Safety Administration

[Docket No. PHMSA-2025-1073]

Pipeline Safety: Request for Special Permit; Gulfstream LNG Development, LLC

AGENCY: Pipeline and Hazardous Materials Safety Administration (PHMSA); Department of Transportation (DOT).

ACTION: Notice.

SUMMARY: PHMSA is publishing this notice to solicit public comments on a request for a special permit for the proposed Gulfstream Liquefied Natural Gas (LNG) Project (Project) submitted by Gulfstream LNG Development, LLC (Gulfstream LNG). Gulfstream LNG is seeking relief from compliance with certain requirements in the Federal pipeline safety regulations. PHMSA has proposed conditions to ensure the special permit is consistent with pipeline safety. At the conclusion of the 30-day comment period, PHMSA will review the comments received from this notice as part of its evaluation to grant or deny the special permit request.

DATES: Submit any comments regarding this special permit request by December 22, 2025.

ADDRESSES: Comments should reference the docket number for this special permit request and may be submitted in the following ways:

• E-Gov Website: http://www.regulations.gov. This site allows the public to enter comments on any Federal Register Notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential Business Information (CBI) is commercial or financial information that is both customarily and actually treated as private by its owner. Under the Freedom of Information Act (FOIA) (5 United States Code § 552), CBI is exempt from public disclosure. If your comments responsive to this notice contain commercial or financial information that is customarily treated as private, that you treat as private, and that is relevant or responsive to this notice, it is important that you clearly designate the submitted comments as CBI. Pursuant to 49 Code of Federal Regulation (CFR) § 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by phone at 202-913-3171 or by email at lee.cooper@dot.gov.

Technical: Ms. Chau Tran by phone at 713-249-2483 or by email at chau.tran@dot.gov.

SUPPLEMENTARY INFORMATION: PHMSA received a special permit request from Gulfstream LNG on September 17, 2025, seeking to waive certain requirements in the Federal pipeline safety regulations that would apply otherwise to the design, construction, and testing of a proposed LNG storage tank in Plaquemines Parish, Louisiana.

Gulfstream LNG is proposing to construct and operate gas treatment, liquefaction, LNG storage, truck loading, and marine facilities (collectively known as the Gulfstream LNG Project or the Project) for the purpose of liquefying domestic natural gas for export to foreign markets as LNG. The proposed project would include a membrane tank, to be used for LNG storage, with a nominal working volume of 200,000 cubic meters or 1,258,000 barrels. Gulfstream LNG seeks to waive the requirements of 49 CFR 193.2101(a), 193.2301, and 193.2303, which incorporate by reference the 2001 edition of National Fire Protection Association (NFPA) 59A-2001, “Standard for the Production, Storage, and Handling of Liquefied Natural Gas (LNG),” for the design, construction, and testing of LNG facilities, including the design of LNG storage tanks. Specifically, Gulfstream LNG is applying for a special permit to authorize the design and construction of a membrane containment tank system (membrane tank) in accordance with the 2023 edition of NFPA-59A, which is not incorporated by reference in 49 CFR part 193.

The special permit request and the proposed special permit conditions for Gulfstream LNG's request are available for review and public comment in Docket No. PHMSA-2025-1073. PHMSA invites interested persons to review and submit comments in the docket on the special permit request and the proposed special permit conditions. Please submit comments on any potential safety, environmental, and other relevant considerations implicated by the special permit request. Comments may include relevant data.

Before issuing a decision on the special permit request, PHMSA will evaluate all comments received on or before the closing date. PHMSA will consider each relevant comment it receives in making its decision to grant or deny this special permit request.

Issued in Washington, DC, on November 17,2025, under authority delegated in 49 CFR 1.97.
Linda Daugherty,
Acting Associate Administrator for Pipeline Safety.

[FR Doc. 2025-20337 Filed 11-19-25; 8:45 am]

BILLING CODE 4910-60-P